DEPARTMENT OF COMMERCE

National Oceanic and Atmospheric Administration

RIN 0648-XZ63

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Monkfish Committee, on November 2, 2010, to consider actions affecting New England fisheries in the exclusive economic zone (EEZ). Recommendations from this group will be brought to the full Council for formal consideration and action, if appropriate.

DATES: The meeting will be held on Tuesday, November 2, 2010 at 9 a.m.

ADDRESSES: The meeting will be held at the Providence Biltmore Hotel, 11 Dorrance Street, Providence, RI 02903; telephone: (401) 421-0700; fax: (401) 455-3050.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The New England Fishery Management Council's (NEFMC) Scientific and Statistical Committee (SSC) has recommended revisions to the monkfish biomass reference points and the Acceptable Biological Catch (ABC) limits. For the Northern Management Area (NMS), the recommended ABC is below the Annual Catch Target (ACT) recently submitted by the New England and Mid-Atlantic Councils to the Secretary of Commerce in Amendment 5. In response, the NEFMC has initiated Framework 7 to adopt a revised NMA ACT and associated specifications of days-at-sea (DAS) allocations and trip limits. At this meeting, the Committee will review the Plan Development Team's analysis of alternative ACTs and specifications prior to the initial meeting of the NEFMC on Framework 7. The New England and Mid-Atlantic Councils have also declared their intent to consider catch shares management for the monkfish fishery and to initiate Amendment 6 for that purpose. At this meeting, the Committee will review a draft information package/scoping document prepared by the staff to be used in the initial public meetings on Amendment 6 later this fall.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: October 8, 2010.
Tracey L. Thompson,
Acting Director, Office of Sustainable Fisheries, National Marine Fisheries Service.

[FR Doc. 2010-25888 Filed 10-13-10; 8:45 am]

BILLING CODE 3510-22-P